FEDERAL ELECTION COMMISSION

Sunshine Act Meetings

AGENCY: Federal Election Commission.

DATE AND TIME: Thursday, September 29, 2016 at 10:00 a.m.

PLACE: 999 E Street NW., Washington, DC (Ninth Floor).

STATUS: This Meeting Will Be Open to the Public.

ITEMS TO BE DISCUSSED:

Draft Advisory Opinion 2016-10: Caroline Goodson Parker

REG 2013-01: Draft Notice of Proposed Rulemaking on Technological Modernization

REG 2011-02: Internet Communication Disclaimers

Proposed Amendments to Directive 52

Promoting Voluntary Compliance

Presidential Public Financing Legislative Recommendations

Proposal to Attack Scam PACs

Second Proposal to Launch Rulemaking To Ensure that U.S. Political Spending is Free from Foreign Influence

Proposed Final Audit Report on Freedomworks for America (A13-18)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220

Shawn Woodhead Werth,
Secretary and Clerk of the Commission.

[FR Doc. 2016-23336 Filed 9-23-16; 11:15 am]

BILLING CODE 6715-01-P